FEDERAL ACCOUNTING STANDARDS ADVISORY BOARD

Proposed Reporting Entity; Request for Comments

AGENCY: Federal Accounting Standards Advisory Board.

ACTION: Notice.

Board Action: Pursuant to 31 U.S.C. 3511(d), the Federal Advisory Committee Act (Pub. L. 92-463), as amended, and the FASAB Rules of Procedure, as amended in October, 2010, notice is hereby given that the Federal Accounting Standards Advisory Board is seeking input on a proposed Statement of Federal Financial Accounting Standards addressing the Reporting Entity.

The Standard is available at http://www.fasab.gov/board-activities/documents-for-comment/exposure-drafts-and-documents-for-comment/.

Copies can be obtained by contacting FASAB at (202) 512-7350.

Respondents are encouraged to comment on any part of the exposure draft. Written comments are requested by July 3, 2013, and should be sent to:

Wendy M. Payne, Executive Director, Federal Accounting Standards Advisory Board, 441 G Street NW., Suite 6814, Mail Stop 6H19, Washington, DC 20548.

For assistance in accessing the document contact FASAB at (202) 512-7350.

FOR FURTHER INFORMATION CONTACT: Wendy Payne, Executive Director, at (202) 512-7350.

Authority: Federal Advisory Committee Act, Pub. L. 92-463.

Dated: April 5, 2013.
Charles Jackson,
Federal Register Liaison Officer.

[FR Doc. 2013-08406 Filed 4-10-13; 8:45 am]

BILLING CODE 1610-02-P